DEPARTMENT OF TRANSPORTATION

Federal Aviation Administration

14 CFR Part 39

[Docket No. FAA-2021-0575; Project Identifier MCAI-2020-00545-R]

RIN 2120-AA64

Airworthiness Directives; Bell Textron Canada Limited (Type Certificate Previously Held by Bell Helicopter Textron Canada Limited) Helicopters

AGENCY: Federal Aviation Administration (FAA), DOT.

ACTION: Notice of proposed rulemaking (NPRM).

SUMMARY: The FAA proposes to adopt a new airworthiness directive (AD) for certain Bell Textron Canada Limited (type certificate previously held by Bell Helicopter Textron Canada Limited) (Bell) Model 429 helicopters. This proposed AD was prompted by reports of incorrectly staked spherical bearings in the directional control bellcrank assembly. This proposed AD would require a one-time inspection of the lower surface of the spherical bearing in the directional control bellcrank assembly to determine if it is properly staked and, depending on the findings, applicable corrective actions. For certain helicopters, this proposed AD would also require repetitive inspections and, depending on the findings, applicable corrective actions. This proposed AD would also provide a terminating action for the repetitive inspections. The FAA is proposing this AD to address the unsafe condition on these products.

DATES: The FAA must receive comments on this proposed AD September 7, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address between 9 a.m. and 5 p.m., Monday through Friday, except Federal holidays.

For service information identified in this NPRM, contact Bell Textron Canada Limited, 12,800 Rue de l'Avenir, Mirabel, Quebec J7J 1R4, Canada; telephone 1-450-437-2862 or 1-800-363-8023; fax 1-450-433-0272; email productsupport@bellflight.com; or at https://www.bellflight.com/support/contact-support. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-0575; or in person at Docket Operations between 9 a.m. and 5 p.m., Monday through Friday, except Federal holidays. The AD docket contains this NPRM, the Transport Canada AD, any comments received, and other information. The street address for Docket Operations is listed above.

FOR FURTHER INFORMATION CONTACT: Andrea Jimenez, Aerospace Engineer, COS Program Management Section, Operational Safety Branch, Compliance & Airworthiness Division, FAA, 1600 Stewart Ave., Suite 410, Westbury, NY 11590; telephone (516) 228-7330; email andrea.jimenez@faa.gov.

SUPPLEMENTARY INFORMATION:

Comments Invited

The FAA invites you to send any written relevant data, views, or arguments about this proposal. Send your comments to an address listed under ADDRESSES. Include “Docket No. FAA-2021-0575; Project Identifier MCAI-2020-00545-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Andrea Jimenez, Aerospace Engineer, COS Program Management Section, Operational Safety Branch, Compliance & Airworthiness Division, FAA, 1600 Stewart Ave., Suite 410, Westbury, NY 11590; telephone (516) 228-7330; email andrea.jimenez@faa.gov. Any commentary that the FAA receives which is not specifically designated as CBI will be placed in the public docket for this rulemaking.

Background

Transport Canada, which is the aviation authority for Canada, has issued Canadian AD CF-2020-11, dated April 16, 2020 (Transport Canada AD CF-2020-11), to correct an unsafe condition for Bell Textron Canada Limited (Bell) Model 429 helicopters, serial numbers 57001 through 57210, 57212 through 57344, 57346 through 57371, 57374 through 57377, and 57380. Transport Canada advises that there are reports of incorrectly staked spherical bearings in the directional control bellcrank assembly. This condition, if not addressed, could result in wear or elongation of the bore in the bellcrank, which could result in reduced helicopter directional control.

Accordingly, Transport Canada AD CF-2020-11 requires a one-time inspection to determine if a spherical bearing is properly staked in the directional control bellcrank assembly, and, depending on the findings, replacement of the spherical bearing with a new spherical bearing, repair of an affected bellcrank assembly and repetitive inspections of that repaired bellcrank assembly, or replacement of the affected bellcrank assembly with a serviceable part. Transport Canada AD CF-2020-11 also provides terminating actions for the requirements of the Canadian AD.

FAA's Determination

These helicopters have been approved by the aviation authority of Canada and are approved for operation in the United States. Pursuant to the FAA's bilateral agreement with Canada, Transport Canada, its technical representative, has notified the FAA of the unsafe condition described in its AD. The FAA is proposing this AD after evaluating all known relevant information and determining that the unsafe condition described previously is likely to exist or develop on other helicopters of the same type design.

Related Service Information Under 1 CFR Part 51

The FAA reviewed Bell Alert Service Bulletin 429-19-50, Revision B, dated December 19, 2019. This service information specifies procedures for an initial inspection of the lower surface of the spherical bearing in the directional control bellcrank assembly to determine if it is properly staked, additional inspections, and corrective actions. The corrective actions include installation of a new spherical bearing, repair (including re-identification of the bellcrank assembly part number), and replacement of the bellcrank assembly. The additional inspections include an inspection of the upper surface of the spherical bearing in the directional control bellcrank assembly to determine if it is properly staked, an inspection of the bore in the bellcrank assembly for excessive wear (including mechanical or corrosion damage that exceed 0.001 inch (0.03 millimeter) maximum depth for ¼ of the circumference, and any cracking); and, for any helicopter with a bellcrank assembly that is repaired, repetitive inspections of the lower surface of the spherical bearing to determine if it has moved.

This service information is reasonably available because the interested parties have access to it through their normal course of business or by the means identified in the ADDRESSES section.

Other Related Service Information

The FAA also reviewed Bell Alert Service Bulletin 429-19-50, dated November 27, 2019; and Revision A, dated December 2, 2019. Bell Alert Service Bulletin 429-19-50, dated November 27, 2019, specifies procedures for an initial inspection of the spherical bearing in the directional control bellcrank assembly to determine if it is properly staked and replacement of the spherical bearing with a new spherical bearing if it is determined that the spherical bearing was not properly staked.

Bell Alert Service Bulletin 429-19-50, Revision A, dated December 2, 2019, specifies procedures for an initial inspection of the lower surface of the spherical bearing in the directional control bellcrank assembly to determine if it is properly staked, additional inspections, and corrective actions. The corrective actions include installation of a new spherical bearing. The additional inspections include an inspection of the upper surface of the spherical bearing in the directional control bellcrank assembly to determine if it is properly staked, and an inspection of the bore in the bellcrank assembly for excessive wear.

Proposed AD Requirements in This NPRM

This proposed AD would require accomplishing the actions specified in the service information already described.

Costs of Compliance

The FAA estimates that this AD, if adopted as proposed, would affect 120 helicopters of U.S. registry. The FAA estimates the following costs to comply with this proposed AD:

Estimated Costs
Action | Labor cost | Parts cost | Cost per product | Cost on U.S. operators
Inspection | 1 work-hour × $85 per hour = $85 per inspection cycle | $0 | $85 | $10,200

The FAA estimates the following costs to do any necessary actions that would be required based on the results of the proposed inspection. The agency has no way of determining the number of helicopters that might need these actions:

On-Condition Costs
Action | Labor cost | Parts cost | Cost per product
Replacement Spherical Bearing | 7 work-hours × $85 per hour = $595 | $56 | $651.
Repair/replacement Bellcrank | 4 work-hours × $85 per hour = $340 | 2,856 | 3,196.
Repetitive Inspections | 1 work-hour × $85 per hour = $85 per inspection cycle | 0 | 85 per inspection cycle.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Bell Textron Canada Limited (Type Certificate Previously Held by Bell Helicopter Textron Canada Limited): Docket No. FAA-2021-0575; Project Identifier MCAI-2020-00545-R.

(a) Comments Due Date

The FAA must receive comments on this airworthiness directive (AD) by September 7, 2021.

(b) Affected ADs

None.

(c) Applicability

This AD applies to Bell Textron Canada Limited (type certificate previously held by Bell Helicopter Textron Canada Limited) Model 429 helicopters, certificated in any category, serial numbers 57001 through 57210 inclusive, 57212 through 57344 inclusive, 57346 through 57371 inclusive, 57374 through 57377 inclusive, and 57380.

(d) Subject

Joint Aircraft Service Component (JASC) Code: 6700, Rotorcraft Flight Control.

(e) Unsafe Condition

This AD was prompted by reports of incorrectly staked spherical bearings in the directional control bellcrank assembly. The FAA is issuing this AD to address incorrectly staked spherical bearings in the directional control bellcrank assembly. This condition, if not addressed, could result in wear or elongation of the bore in the bellcrank, which could result in reduced helicopter directional control.

(f) Compliance

Comply with this AD within the compliance times specified, unless already done.

(g) Required Inspection and Corrective Actions

Within 25 hours time-in-service (TIS) or 90 days, whichever occurs first after the effective date of this AD: Inspect the lower surface of the spherical bearing on the directional control bellcrank assembly to determine if it is properly staked, in accordance with the Accomplishment Instructions, Part I, step 7., of Bell Alert Service Bulletin 429-19-50, Revision B, dated December 19, 2019 (BASB 429-19-50, Revision B). After the inspection, before further flight, do the applicable action required by paragraph (g)(1) or (2) of this AD.

(1) If the lower surface of the spherical bearing is improperly staked (any discrepancy is found e.g., the witness marks are not present and intact or the staked lip is not uniform along the chamfer): Inspect the bore in the bellcrank assembly for excessive wear (including mechanical or corrosion damage that exceed 0.001 inch (0.03 millimeter) maximum depth for ¼ of the circumference, and any cracking); in accordance with the Accomplishment Instructions, Part I, steps 10. through 13., of BASB 429-19-50, Revision B, and depending on the findings, do the applicable actions required by paragraph (g)(1)(i) or (ii) of this AD before further flight.

(i) If the bore in the bellcrank assembly shows signs of excessive wear: Repair the bellcrank, including re-identifying the bellcrank assembly part number, in accordance with the Accomplishment Instructions, Part II, steps 1. through 13., of BASB 429-19-50, Revision B.

(ii) If the bore diameter is within 0.001 inch (0.03 millimeter) maximum depth for ¼ of the circumference: Install a new spherical bearing, in accordance with the Accomplishment Instructions, Part II, steps 4. through 12., of BASB 429-19-50, Revision B.

(2) If the lower surface of the spherical bearing is properly staked: Inspect the upper surface of the spherical bearing on the directional control bellcrank assembly to determine if it is properly staked, in accordance with the Accomplishment Instructions, Part I, steps 8. and 9., of BASB 429-19-50, Revision B, and depending on the findings, do the applicable actions required by paragraph (g)(2)(i) or (ii) of this AD before further flight.

(i) If the spherical bearing is properly staked: No further action is required by this AD.

(ii) If the spherical bearing is not properly staked (any discrepancy is found e.g., the witness marks are not present and intact or the staked lip is not uniform along the chamfer): Inspect the bore in the bellcrank assembly for excessive wear (including mechanical or corrosion damage that exceed 0.001 inch (0.03 millimeter) maximum depth for ¼ of the circumference, and any cracking), in accordance with the Accomplishment Instructions, Part I, steps 10. through 13., of BASB 429-19-50, Revision B, and depending on the findings, do the applicable actions required by paragraph (g)(2)(ii)(A) or (B) of this AD before further flight.

(A) If the bore in the bellcrank assembly shows signs of excessive wear: Repair the bellcrank, including re-identifying the bellcrank assembly part number, in accordance with the Accomplishment Instruction, Part II, steps 1. through 13., of BASB 429-19-50, Revision B.

(B) If the bore diameter is within 0.001 inch (0.03 millimeter) maximum depth for ¼ of the circumference: Install a new spherical bearing, in accordance with the Accomplishment Instructions, Part II, steps 4. through 12., of BASB 429-19-50, Revision B.

(h) Required Post Repair Inspections

For any helicopter on which the bellcrank has been repaired as required by paragraphs (g)(1)(i) or (g)(2)(ii)(A) of this AD: Within 100 hours TIS after the repair, and thereafter at intervals not to exceed 100 hours TIS, inspect the lower surface of the spherical bearing to determine if it has moved, in accordance with the Accomplishment Instructions, Part III, step 7., of BASB 429-19-50, Revision B. If the spherical bearing has moved (is loose): Before further flight, inspect the bore in the bellcrank assembly to determine if the diameter exceeds 0.6283 inch (15.9588 millimeters), in accordance with the Accomplishment Instructions, Part III, steps 8. through 11., of BASB 429-19-50, Revision B.

(1) If the diameter of the bore in the bellcrank assembly exceeds 0.6283 inch (15.9588 millimeters): Before further flight replace the bellcrank assembly.

(2) If the diameter of the bore in the bellcrank assembly does not exceed 0.6283 inch (15.9588 millimeters): Before further flight install a new spherical bearing in accordance with the Accomplishment Instructions, Part II, steps 4. through 12., of BASB 429-19-50, Revision B.

(i) Terminating Action

Replacement of a bellcrank assembly with a new part (never installed on a helicopter or has accumulated zero hours TIS) is terminating action for the requirements of this AD for that helicopter only.

(j) Credit for Previous Actions

This paragraph provides credit for actions required by paragraph (g) of this AD, if those actions were performed before the effective date of this AD using the service information identified in paragraph (j)(1) or (2) of this AD.

(1) Bell Alert Service Bulletin 429-19-50, dated November 27, 2019.

(2) Bell Alert Service Bulletin 429-19-50, Revision A, dated December 2, 2019.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l)(1) of this AD. Information may be emailed to: 9-AVS-AIR-730-AMOC@faa.gov.

(2) Before using any approved AMOC, notify your appropriate principal inspector, or lacking a principal inspector, the manager of the local flight standards district office/certificate holding district office.

(l) Related Information

(1) For more information about this AD, contact Andrea Jimenez, Aerospace Engineer, COS Program Management Section, Operational Safety Branch, Compliance & Airworthiness Division, FAA, 1600 Stewart Ave., Suite 410, Westbury, NY 11590; telephone (516) 228-7330; email andrea.jimenez@faa.gov.

(2) For service information identified in this AD, contact Bell Textron Canada Limited, 12,800 Rue de l'Avenir, Mirabel, Quebec J7J 1R4, Canada; telephone 1-450-437-2862 or 1-800-363-8023; fax 1-450-433-0272; email productsupport@bellflight.com; or at https://www.bellflight.com/support/contact-support. You may view this referenced service information at the FAA, Office of the Regional Counsel, Southwest Region, 10101 Hillwood Pkwy., Room 6N-321, Fort Worth, TX 76177. For information on the availability of this material at the FAA, call (817) 222-5110.

(3) The subject of this AD is addressed in Transport Canada AD CF-2020-11, dated April 16, 2020. You may view the Transport Canada AD on the internet at https://www.regulations.gov in Docket No. FAA-2021-0575.

Issued on July 15, 2021.
Ross Landes,
Deputy Director for Regulatory Operations, Compliance & Airworthiness Division, Aircraft Certification Service.

[FR Doc. 2021-15534 Filed 7-22-21; 8:45 am]

BILLING CODE 4910-13-P